COMMISSION ON CIVIL RIGHTS

Sunshine Act Meeting

AGENCY: United States Commission on Civil Rights.

ACTION: Amended Notice of Briefing and Business Meeting.

DATE AND TIME: Friday, July 25, 2014; 9:00 a.m. E.S.T.

PLACE: 1331 Pennsylvania Ave. NW., Suite 1150, Washington, DC 20425.

Briefing Agenda—9:00 a.m.-1:30 p.m.

This briefing is open to the public.

Topic: Enforcement of Sexual Harassment Policy at Educational Institutions by the U.S. Department of Education's Office for Civil Rights (OCR) and the Civil Rights Division of the Department of Justice (DOJ).

I. Introductory Remarks by Chairman Castro

II. Issue Panel I—9:05 a.m.-10:15 a.m.: OCR/DOJ Guidance Speakers' Remarks and Questions from Commissioners

III. Issue Panel II—10:15 a.m.-11:10 a.m.: OCR/DOJ Guidance Speakers' Remarks and Questions from Commissioners

IV. Issue Panel III—11:10 a.m.-12:00 p.m. Data on Sexual Harassment Speakers' Remarks and Questions from Commissioners

V. Issue Panel IV—12:00 p.m.-1:30 p.m.: Pros/Cons on OCR/DOJ Guidance Speakers' Remarks and Questions from Commissioners

VI. Adjourn Briefing

Business Meeting Agenda—2:00 p.m.

I. Program Planning

a. Discussion and Vote on Part A & Part B of the briefing report: Increasing Compliance with Section 7 of the NVRA

b. Consideration and Vote on Commission letter regarding Federal Response to the Unaccompanied Minor Immigrants

c. Discussion and Vote on the FY2015 Statutory Enforcement Report topic

d. Discussion and Vote on two briefing topics for FY2015

II. Management and Operations

• Staff Director's Report

III. State Advisory Committee (SAC) Appointments

• Arizona

• Missouri

• Virginia

CONTACT PERSON FOR FURTHER INFORMATION: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

Dated: July 18, 2014.
Marlene Sallo,
Staff Director.

[FR Doc. 2014-17338 Filed 7-18-14; 4:15 pm]

BILLING CODE 6335-01-P